ENVIRONMENTAL PROTECTION AGENCY

[EPA-HQ-OPP-2015-0794; FRL-9948-38]

Atrazine, Simazine, and Propazine Registration Review; Draft Ecological Risk Assessments; Extension of Comment Period

AGENCY: Environmental Protection Agency (EPA).

ACTION: Notice; extension of comment period.

SUMMARY: EPA issued a notice in the Federal Register of June 6, 2016, concerning opening a comment period for the draft ecological risk assessments of atrazine, simazine, and propazine. This document extends the comment period for 60 days, from August 5, 2016, to October 4, 2016. This comment period is being extended in response to a number of extension requests from various stakeholders citing difficulty commenting during the growing season, and the length, quantity, and complexity of the Risk Assessments.

DATES: Comments, identified by docket identification (ID) number EPA-HQ-OPP-2015-0794, must be received on or before October 4, 2016.

ADDRESSES: Follow the detailed instructions provided under ADDRESSES in the Federal Register document of June 6, 2016 (81 FR 108) (FRL-9945-06).

FOR FURTHER INFORMATION CONTACT: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION: This document extends the public comment period established in the Federal Register document of June 6, 2016. In that document, EPA opened a comment period for a draft ecological risk assessments for the registration review of atrazine, simazine, and propazine. EPA is hereby extending the comment period, which was set to end on August 5, 2016, to October 4, 2016.

To submit comments, or access the docket, please follow the detailed instructions provided under ADDRESSES in the Federal Register document of June 6, 2016. If you have questions, consult the person listed under FOR FURTHER INFORMATION CONTACT.

Authority: 7 U.S.C. 136 et seq.

Dated: June 27, 2016.
Yu-Ting Guilaran,
Director, Pesticide Re-Evaluation, Office of Pesticide Programs.

[FR Doc. 2016-16021 Filed 7-5-16; 8:45 am]

BILLING CODE 6560-50-P